DEPARTMENT OF COMMERCE

National Oceanic and Atmospheric Administration

50 CFR Part 622

[Docket No. 120403249-2492-02]

RIN 0648-XC529

Fisheries of the Caribbean, Gulf of Mexico, and South Atlantic; Snapper-Grouper Resources of the South Atlantic; Golden Tilefish Trip Limit Adjustments

AGENCY: National Marine Fisheries Service (NMFS), National Oceanic and Atmospheric Administration (NOAA), Commerce.

ACTION: Temporary rule; trip limit adjustments.

SUMMARY: On February 18, 2013, NMFS reduced the commercial trip limit for golden tilefish in the South Atlantic exclusive economic zone (EEZ) from 4,000 lb (1,814 kg) to 300 lb (136 kg) per trip because NMFS projected that 75 percent of the fishing year quota would be met on that day. Recent information indicates, however, that 75 percent of the fishing year quota has not been reached at this time. Therefore, through this temporary rule, NMFS reinstates the 4,000-lb (1,814-kg) commercial trip limit for golden tilefish in the South Atlantic EEZ from March 13, 2013, through March 21, 2013, when NMFS projects that 75 percent of the fishing year quota would be met. On March 22, 2013, the commercial trip limit for golden tilefish in the South Atlantic EEZ will go back to 300 lb (136 kg). These trip limit adjustments are necessary to achieve optimum yield and better manage the South Atlantic golden tilefish resource.

DATES: The 4,000-lb (1,814-kg) commercial trip limit for golden tilefish in the South Atlantic EEZ is effective from 12:01 a.m., local time, March 13, 2013, until 12:01 a.m., local time, March 22, 2013. The 300-lb (136-kg) commercial trip limit for golden tilefish in the South Atlantic EEZ is effective from 12:01 a.m., local time, March 22, 2013, through December 31, 2013, unless changed by subsequent notification in the Federal Register.

FOR FURTHER INFORMATION CONTACT: Catherine Hayslip, telephone: 727-824-5305, or email: Catherine.Hayslip@noaa.gov.

SUPPLEMENTARY INFORMATION: The snapper-grouper fishery includes golden tilefish in the South Atlantic and is managed under the Fishery Management Plan for the Snapper-Grouper Resources of the South Atlantic (FMP). The FMP was prepared by the South Atlantic Fishery Management Council and is implemented under the authority of the Magnuson-Stevens Fishery Conservation and Management Act (Magnuson-Stevens Act) by regulations at 50 CFR part 622.

Under 50 CFR 622.44(c)(2), NMFS is required to reduce the trip limit in the commercial sector for golden tilefish from 4,000 lb (1,814 kg) to 300 lb (136 kg) per trip when 75 percent of the fishing year quota is met prior to September 1, by filing a notification to that effect with the Office of the Federal Register. The commercial quota for golden tilefish in the South Atlantic is 541,295 lb (245,527 kg), gutted weight, as specified in 50 CFR 622.42(e)(2). NMFS determined that 75 percent of the available commercial quota for golden tilefish would be reached on or before February 18, 2013. Accordingly, effective February 18, 2013, NMFS reduced the commercial golden tilefish trip limit to 300 lb (136 kg), gutted weight, in the South Atlantic EEZ (78 FR 10102, February 13, 2013).

Recent landings information indicate that the commercial sector for golden tilefish did not reach 75 percent of the fishing year quota on February 18, 2013, nor has 75 percent of the fishing year quota been reached at this time. Therefore, through this temporary rule, NMFS removes the commercial trip limit reduction for golden tilefish in the South Atlantic to reinstate the 4,000 lb (1,814 kg) trip limit from March 13, 2013, through March 21, 2013, when NMFS projects that 75 percent of the fishing year quota would be met. Effective March 22, 2013, the trip limit will be 300 lb (136 kg) per trip. The 300 lb (136 kg) trip limit will remain in effect until the quota is reached and the commercial sector closes, or through December 31, 2013, whichever occurs first.

Classification

The Regional Administrator, Southeast Region, NMFS, has determined this temporary rule is necessary for the conservation and management of South Atlantic golden tilefish and is consistent with the Magnuson-Stevens Act and other applicable laws.

This action is taken under 50 CFR 622.44(c)(2) and is exempt from review under Executive Order 12866.

These measures are exempt from the procedures of the Regulatory Flexibility Act because the temporary rule is issued without opportunity for prior notice and comment.

Pursuant to 5 U.S.C. 553(b)(B), the Assistant Administrator for Fisheries, NOAA, (AA), finds good cause to waive the requirements to provide prior notice and the opportunity for public comment on this temporary rule. Such procedures are unnecessary because the rule itself has already been subject to notice and comment, and all that remains is to notify the public of the trip limit adjustments.

Allowing prior notice and opportunity for public comment is contrary to the public interest because of the need to immediately implement this action to achieve optimum yield and better manage the South Atlantic golden tilefish resource.

For the aforementioned reasons, the AA also finds good cause to waive the 30-day delay in the effectiveness of this action under 5 U.S.C. 553(d)(3).

Authority: 16 U.S.C. 1801 et seq.

Dated: March 8, 2013.
Kara Meckley,
Acting Deputy Director, Office of Sustainable Fisheries, National Marine Fisheries Service.

[FR Doc. 2013-05784 Filed 3-8-13; 4:15 pm]

BILLING CODE 3510-22-P